FEDERAL ENERGY REGULATORY COMMISSION

[Docket No. CP09-59-000]

Dominion Cove Point LNG, LP; Notice of Application

February 18, 2009.

Take notice that on February 3, 2009, as supplemented on February 12, 2009, Dominion Cove Point LNG, LP (Cove Point) with a principal place of business at 120 Tredegar Street, Richmond, VA, filed with the Federal Energy Regulatory Commission an application under Section 3 of the Natural Gas Act seeking authorization to construct, install, own, operate and maintain a new compressor to be used to compress boil-off gas from the vapor system up to pipeline pressure prior to entering the Cove Point Pipeline at Dominion's Cove Point LNG Terminal located in Calvert County, Maryland.

Cove Point's proposal is more fully set forth in the application which is on file with the Commission and open to public inspection. The filing is available for review at the Commission in the Public Reference Room or may be viewed on the Commission's Web site at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Amanda K. Prestage, Regulatory and Certificates Analyst II, Dominion Transmission, Inc., 701 East Cary Street, Richmond, VA 23219, telephone: (804) 771-4416, fax: (804) 771-4804.

Cove Point says that the purpose of the boil-off compressor project is to increase Cove Point's capability to compress vapor for send-out through its natural gas pipeline facilities. This capability is important during periods of low send-out from the LNG Terminal. When LNG is routinely being vaporized in the normal course of business, boil off vapor is consumed as fuel to operate terminal equipment, and does not accumulate within the plant. However, when vaporization is not occurring on a regular basis, boil off can cause pressures within the LNG storage tanks to increase.

The boil-off compressor project will be composed of one 3,500-horsepower electric motor driven reciprocating compressor unit and related facilities, all of which will be constructed within the existing LNG Terminal site. The estimated cost of the boil-off compressor project facilities is about $ 8 million. Cove Point anticipates that these costs will be allocated to LNG import services, and will be collected in rates (1) through negotiations in accordance with the Commission's Hackberry policy as codified in EPAct 2005, and/or (2) through the normal course of future rate proceedings (such as the next general rate case that is to be filed not later than 2011). Cove Point does not seek to establish an initial rate applicable to the boil-off compressor project at this time. Nor is Cove Point seeking a pre-determination of rolled-in rate treatment for the costs of this project. Cove Point says that no changes to the rates for any existing services are proposed at this time.

Pursuant to section 157.9 of the Commission's rules, 18 CFR 157.9, within 90 days of this Notice, the Commission staff will either: complete the environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

Comment Date: March 10, 2009.

Kimberly D. Bose,
Secretary.

[FR Doc. E9-3967 Filed 2-24-09; 8:45 am]

BILLING CODE 6717-01-P